DEPARTMENT OF COMMERCE

National Oceanic and Atmospheric Administration

[I.D. 070803C]

North Pacific Fishery Management Council; Public Meeting

AGENCY: National Marine Fisheries Service (NMFS), National Oceanic and Atmospheric Administration (NOAA), Commerce.

ACTION: Notice of public meetings.

SUMMARY: The North Pacific Fishery Management Council (Council) Joint Protocol Committee of the Alaska Board of Fisheries and Council will meet on July 28-29, 2003 in Anchorage.

DATES: The meetings will be held on July 28, 2003 from 8:30 a.m. until 5 p.m., and July 29 from 8:30 a.m. until 12 noon.

ADDRESSES: The meeting will be held at the Hilton Hotel, 500 W. 3rd Avenue, Anchorage, AK.

Council address: North Pacific Fishery Management Council, 605 W. 4th Ave., Suite 306, Anchorage, AK 99501-2252.

FOR FURTHER INFORMATION CONTACT: Council staff, telephone: 907-271-2809.

SUPPLEMENTARY INFORMATION: Agenda: (1) Board's role in reviewing petitions for halibut customary and traditional findings from additional tribes and communities, (2) Groundfish “Bycatch” in the halibut subsistence fisheries and conflicting state and federal subsistence gear regulations, (3) Management of State water and parallel fisheries under proposed Gulf of Alaska groundfish rationalization, (4) Observer coverage in State groundfish fisheries.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: July 8, 2003.
Richard W. Surdi,
Acting Director, Office of Sustainable Fisheries, National Marine Fisheries Service.

[FR Doc. 03-17751 Filed 7-11-03; 8:45 am]

BILLING CODE 3510-22-S